DEPARTMENT OF COMMERCE

National Oceanic and Atmospheric Administration

Agency Information Collection Activities; Submission to the Office of Management and Budget (OMB) for Review and Approval; Comment Request; Statement of Financial Interests, Regional Fishery Management Councils

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 16, 2026.

ADDRESSES: Interested persons are invited to submit written comments to Adrienne Thomas, NOAA PRA Officer, at NOAA.PRA@noaa.gov. Please reference OMB Control Number 0648-0192 in the subject line of your comments. All comments received are part of the public record and will generally be posted on https://www.regulations.gov without change. Do not submit Confidential Business Information or otherwise sensitive or protected information.

FOR FURTHER INFORMATION CONTACT: Requests for additional information or specific questions related to collection activities should be directed to Sean Lawler, Policy Analyst (Contractor), 1315 East West Hwy., Bldg. SSMC3, Silver Spring, MD 20910-3282. (301) 427-8561, and sean.lawler@noaa.gov.

SUPPLEMENTARY INFORMATION:

I. Abstract

This is a request for renewal of an approved information collection. The National Marine Fisheries Service (NMFS), Office of Sustainable Fisheries (OSF) is the sponsor for this request. The Magnuson Stevens Fishery Conservation and Management Act (Magnuson-Stevens Act) authorize the establishment of eight Regional Fishery Management Councils to manage fisheries within regional jurisdictions. Section 302(j) of the Magnuson-Stevens Act requires that affected individuals, including Council members appointed by the Secretary of Commerce, Scientific and Statistical Committee (SSC) members appointed by a Council, and individuals nominated by the State Governor, Territorial Governor or Tribal Government for possible appointment as a Council member (50 CFR 600.235), must disclose their financial interest in any Council fishery. Financial interests include harvesting, processing, lobbying, advocacy, or marketing activity that is being, or will be, undertaken within any fishery over which the Council concerned has jurisdiction. Information on financial interests must be disclosed on NOAA Form 88-195, Statement of Financial Interests, under OMB collection 0648-0192. The information collected is used to assess potential conflicts of interest and to make determinations about when recusals from Council voting decisions are necessary to avoid such conflicts. NMFS and Council offices are required to maintain current Statement of Financial Interests forms on file that are publicly available for transparency.

II. Method of Collection

Information will be collected electronically. Paper forms will be accepted if needed.

III. Data

OMB Control Number: 0648-0192.

Form Number(s): NOAA Form 88-195.

Type of Review: Regular submission (extension of a current information collection).

Affected Public: Individuals or households.

Estimated Number of Respondents: 330.

Estimated Time per Response: 45 minutes.

Estimated Total Annual Burden Hours: 248 hours.

Estimated Total Annual Cost to Public: $0.

Respondent's Obligation: Mandatory.

Legal Authority: MSA Section 302(j) and 50 CFR 600.235.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-00555 Filed 1-13-26; 8:45 am]

BILLING CODE 3510-22-P